DEPARTMENT OF THE INTERIOR

Bureau of Land Management

[LLIDC00000.14XL1109AF.L10100000.MU0000.241A0;4500066014]

Third Call for Nominations for the Coeur d'Alene Resource Advisory Committee, Idaho

AGENCY: Bureau of Land Management, Interior.

ACTION: Notice.

SUMMARY: The purpose of this notice is to reopen the request for public nominations for the Bureau of Land Management (BLM) Coeur d'Alene Resource Advisory Committee (RAC) that has member terms expiring this year. The RAC provides advice and recommendations to the BLM on land use planning and management of the National System of Public Lands within the respective geographic area. For 30 days after the publication of this notice, the BLM will accept public nominations for positions in Category One—holders of Federal grazing permits and representatives of organizations associated with energy and mineral development, timber industry, transportation or rights-of-way, developed outdoor recreation, off-highway vehicle use, and commercial recreation.

DATES: All nominations must be received no later than October 14, 2014.

ADDRESSES: 3815 Schreiber Way, Coeur d'Alene, ID 83815

FOR FURTHER INFORMATION CONTACT: Suzanne Endsley, U.S. Department of the Interior, Bureau of Land Management, Coeur d'Alene District Public Affairs Officer, 3815 Schreiber Way, Coeur d'Alene, ID 83815, 208-769-5004.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands. The rules governing RACs are found at 43 CFR subpart 1784 and include the following three membership categories:

Category One—Holders of Federal grazing permits and representatives of organizations associated with energy and mineral development, timber industry, transportation or rights-of-way, developed outdoor recreation, off-highway vehicle use, and commercial recreation;

Category Two—Representatives of nationally or regionally recognized environmental organizations, archaeological and historic organizations, dispersed recreation activities, and wild horse and burro organizations; and

Category Three—Representatives of State, county, or local elected office, employees of a State agency responsible for management of natural resources, representatives of Indian tribes within or adjacent to the area for which the council is organized, representatives of academia who are employed in natural sciences, and the public-at-large.

Individuals may nominate themselves or others. Nominees must be residents of the State of Idaho. The BLM will evaluate nominees based on their education, training, experience, and knowledge of the geographical area of the RAC. Nominees should demonstrate a commitment to collaborative resource decision-making. The Obama Administration prohibits individuals who are currently federally registered lobbyists from being appointed or re-appointed to FACA and non-FACA boards, committees, or councils.

The following must accompany all nominations for the RAC:

—Letters of reference from represented interests or organizations;

—A completed Resource Advisory Council application; and

—Any other information that addresses the nominee's qualifications.

Simultaneous with this notice, the BLM Idaho state office will issue a press release providing additional information for submitting nominations, with specifics about the number and categories of member positions available for the RAC. If you have already submitted your RAC nomination materials for 2014 you will not need to resubmit. Nominations for the Coeur d'Alene RAC should be sent to the appropriate BLM office as noted below:

Idaho

Coeur d'Alene RAC, Suzanne Endsley, BLM Coeur d'Alene District Office, 3815 Schreiber Way, Coeur d'Alene, ID 83835, 208-769-5004.

Authority: 43 CFR 1784.4-1.

Timothy M. Murphy,
Acting Idaho State Director.

[FR Doc. 2014-21641 Filed 9-10-14; 8:45 am]

BILLING CODE 4310-GG-P